DEPARTMENT OF ENERGY

U. S. Energy Information Administration

Proposed Agency Information Collection

AGENCY: U.S. Energy Information Administration (EIA), Department of Energy (DOE).

ACTION: Agency information collection activities: Proposed information collection; notice and request for comments.

SUMMARY: The EIA invites public comment on a proposed collection of information that EIA is developing for submission to the Office of Management and Budget (OMB) pursuant to the Paperwork Reduction Act of 1995. The EIA is soliciting comments on two proposed actions (1) revisions to the Form EIA-923, “Power Plant Operations Report” and Form EIA-861, “Annual Electric Power Industry Report,” and (2) creation of the Form EIA-861S, Annual Electric Power Industry Report (Short Form).

The Federal Energy Administration Act of 1974, specifically 15 U.S.C. 790a, and the DOE Organization Act, specifically 42 U.S.C. 7135, require the EIA to carry out a centralized, comprehensive, and unified energy information program. This program collects, evaluates, assembles, analyzes, and disseminates information on energy resource reserves, production, demand, technology, and related economic and statistical information.

The EIA collects information about the electric power industry for use by government and private sector analysts. The survey information is disseminated in a variety of electronic products and files. For details on the EIA electric power information program, please visit the electricity page of the EIA Internet site at http://www.eia.gov/electricity/.

The EIA, as part of its effort to comply with the Paperwork Reduction Act of 1995 (44 U.S.C. §§ 3501, et seq.), provides the general public and others with opportunities to comment on collections of energy information conducted by or in conjunction with the EIA. Also, the EIA will later seek approval for this collection by the Office of Management and Budget (OMB) under Section 3507(a) of the Paperwork Reduction Act of 1995.

The proposed changes to the Form EIA-861 and Form EIA-923 survey forms and the creation of the new Form EIA-861S (“short form”) are designed to reduce the number of survey responses processed by EIA without materially sacrificing the quality of the data collected and published. The primary objective is to allow EIA to better match its workload to its available resources. The proposed changes would also reduce the burden on respondents.

The proposed changes would not alter the current expiration date for the existing Form EIA-923 and Form EIA-861 surveys of October 31, 2013. The requested expiration date for the new Form EIA-861S is also October 31, 2013. During 2013, EIA will request the standard 3-year approval for these and other electric power forms (i.e., for 2014 through 2016).

The form changes are explained below. Please refer to the proposed forms and instructions for more information about the purpose, who must report, when to report, where to submit, the elements to be reported, detailed instructions, provisions for confidentiality, and uses (including possible non-statistical uses) of the information. For instructions on obtaining materials, see the FOR FURTHER INFORMATION CONTACT section, below.

DATES: Comments regarding this proposed information collection must be received on or before May 14, 2012. If you anticipate difficulty in submitting comments within that period, contact the person listed in ADDRESSES below as soon as possible.

ADDRESSES: Send comments to Rebecca Peterson. To ensure receipt of the comments by the due date, email is recommended (Electricity2013@eia.gov). Comments may also be submitted via fax at (202) 586-3045 or mail to U. S. Department of Energy, U. S. Energy Information Administration, EI-23, 1000 Independence Avenue SW., Washington, DC 20585. Alternatively, Rebecca Peterson may be contacted by telephone at (202) 586-4509.

FOR FURTHER INFORMATION CONTACT: Requests for additional information or copies of the information collection instrument and instructions should be directed to Ms. Peterson at the contact information given above. The proposed forms and instructions, along with related information on this clearance package, can be viewed at http://www.eia.gov/survey/changes/electricity.

SUPPLEMENTARY INFORMATION: This information collection request includes information on two surveys for which material changes are proposed, the Forms EIA-861, and EIA-923, and for the new Form EIA-861S.

Form EIA-861

(1) OMB No. 1905-0129.

(2) Information Collection Request Title: Form EIA-861, “Annual Electric Power Industry Report”.

(3) Type of Request: Revision.

(4) Purpose:

Need for and proposed use of the information: The Form EIA-861 is used to collect retail sales of electricity and associated revenue from all electric utilities, energy service providers, and distribution companies in the United States, its territories, and Puerto Rico on an annual basis. The data from this form appear in various EIA information products and are used by public and private analysts to monitor the current status and trends of the electric power industry and to evaluate the future of the industry. The response obligation for the information collection is mandatory.

The EIA proposes the following changes to Form EIA-861, “Annual Electric Power Industry Report.”

Modify the frame from a census to a sample, and use imputation methods to estimate the sales revenues and customer counts by sector and State for the remaining industry.

Currently there are approximately 3,300 respondents to the Form EIA-861. The current proposal would decrease that to approximately 2,200 respondents.

(5) Annual Estimated Number of Respondents: 2,200.

(6) Annual Estimated Number of Total Responses: 2,200.

(7) Annual Estimated Number of Burden Hours: 19,800.

(8) Annual Estimated Reporting and Recordkeeping Cost Burden: $0 There are no additional costs to respondents associated with the survey other than the costs associated with the burden hours.

Form EIA-861S

(1) OMB No. 1905-0129.

(2) Information Collection Request Title: Form EIA-861S, “Annual Electric Power Industry Report (Short Form)”.

(3) Type of Request: New.

(4) Purpose:

Need for and proposed use of the information: Form EIA-861S will be used to collect information on the status of select electric power industry participants involved in the sale and distribution of electricity in the United States. The data collected on this form will be used to provide statistical estimates that will appear in various EIA information products and will be used by public and private analysts to monitor the current status and trends of the electric power industry and to evaluate the future of the industry. The response obligation for the information collection is mandatory.

The EIA proposes the following for Form EIA-861S, “Annual Electric Power Industry Report (Short Form)”.

Create a new Form EIA-861S for the respondents that have been removed from the Form EIA-861 frame (about 1,100 respondents; see above). The new survey will ask respondents for contact information and a limited set of primarily yes/no questions concerning their status and operations. This limited data will be used to estimate nationwide totals, in combination with the comprehensive data collected from the sample on the Form EIA-861.

In addition, for advanced metering and time-based tariff programs, EIA will collect limited data.

The Form EIA-861S is to be completed by all electric utilities with annual retail sales in the prior year of 100,000 megawatthours or less, with the following exceptions: (1) A respondent has retail sales of unbundled service; (2) A full set of data is required from the respondent to ensure that statistical estimates for a state or business sector are of acceptable quality; (3) A respondent reports in aggregate under the Tennessee Valley Authority (TVA) or WPPI Energy; and (4) A respondent has other unique retail programs of interest to the public the nature and extent of which cannot be adequately captured via this short form. Utilities for which any of the exceptions apply must complete the regular (long) version of the Form EIA-861 survey.

Note that respondents can only complete one type of Form EIA-861, either the Form EIA-861 or the Form EIA-861S, but not both. Also note that responses are collected on both types of forms at the business (operating) level (not at the holding company level).

In order to maintain the accuracy of the estimation procedure, once every 5 years the Form EIA-861S respondents would be required to complete the Form EIA-861. Assuming this proposal is implemented, the first time all respondents would be required to complete the Form EIA-861 would be in 2017 for 2016 data.

EIA has performed an analysis to develop a methodology to impute for the sales, revenue, and customer data by State and sector that will not be collected annually from the respondents on the short form. A description of this methodology can be found at www.eia.gov/survey/forms/eia-861/methodology.pdf.

(5) Annual Estimated Number of Respondents: 1,100.

(6) Annual Estimated Number of Total Responses: 1,100.

(7) Annual Estimated Number of Burden Hours: 825.

(8) Annual Estimated Reporting and Recordkeeping Cost Burden: $0. There are no additional costs to respondents associated with the survey other than the costs associated with the burden hours.

Form EIA-923

(1) OMB No. 1905-0129.

(2) Information Collection Request Title: Form EIA-923, “Power Plant Operations Report,” Schedule 2, Cost and Quality of Fuel Purchases.

(3) Type of Request: Revision.

(4) Purpose:

Need for and proposed use of the information: Form EIA-923 collects information from regulated and unregulated electric power plants in the United States. The current proposal affects only Schedule 2, Cost and Quality of Fuel Receipts. (As a matter of information, other data collected include electric power generation, energy source consumption, and end of reporting period fossil fuel stocks). Data are published for use by Congress and public and private analysts in the following EIA publications: Electric Power Annual, Electric Power Monthly, Monthly Energy Review, and Annual Energy Review. The response obligation for the information collection is mandatory.

The EIA proposes the following changes to Form EIA-923, “Power Plant Operations Report.”

Schedule 2 of the Form EIA-923, “Power Plant Operations Report,” collects the cost and quality of fossil fuel purchases made by electric power plants with at least 50 megawatts (MW) of nameplate capacity primarily fueled by fossil fuels. The selection of respondents for Schedule 2 and its predecessors, the Form EIA-423 and the FERC Form 423 (the latter dating to the early 1970s), were tied to a minimum size threshold that varied over time from 25 MW to 50 MW. The types of plants required to respond have also changed over time. When Form EIA-923 was first implemented, EIA imputed small amounts of data for receipts or cost of the fuel delivered to plants for power plants that did not meet the minimum capacity threshold.

The proposed change from plants with a total fossil-fueled nameplate capacity of 50 MW or more to plants with a total fossil-fueled nameplate capacity of 200 MW or more will reduce the number of respondents who are required to complete Schedule 2. The change would also modify the required fossil fuel types to exclude self-produced and minor fuels, i.e., blast furnace gas, other manufactured gases, kerosene, jet fuel, and waste oils.

As part of this change, EIA would cease its current efforts to impute for fuel receipts and fuel cost for plants that do not meet the minimum capacity threshold. The collected data would be presented for fuel receipts, cost, and quality information for relatively large power plants.

These changes would have a limited impact of the survey's coverage of cost and quality for the major fossil fuels used in power generation (coal, distillate and residual fuel oil, petroleum coke, and natural gas) as even under this proposal EIA would still collect cost and quality data on the vast majority of receipts of coal and natural gas, the two main fossil fuels consumed in power generation. For additional details see the information posted on the EIA Web site at www.eia.gov/survey/forms/eia-923/impact.pdf.

Note that the proposed change to Schedule 2 does not affect the collection of fuel consumption information and reporting requirements on other schedules of the Form EIA-923. Data on fuel consumption and related information are collected from all generators using combustible fuels with a power plant capacity of 1 MW or greater.

EIA expects this change will reduce resource requirements for processing and validating data based on the effort that was required in the past to verify data from small respondents and for the cost of minor fuels with highly variable quality characteristics and price.

(5) Annual Estimated Number of Respondents: Estimated number of respondents: There are three variants of the Form EIA-923 survey, i.e. the monthly, the annual, and the supplemental. Currently, there are 1,912 monthly respondents, 4,042 annual respondents, and 1,508 supplemental respondents. The annual total number of responses received for the monthly, annual, and supplemental Form EIA-923 surveys is 28,494. Under the current proposal, the number of respondents that file Schedule 2 of the monthly report will be reduced from 1,089 to 956 per month. The number of respondents that file Schedule 2 annually will be reduced from 421 to 0.

(6) Annual Estimated Number of Total Responses: 28,494.

(7) Annual Estimated Number of Burden Hours: 78,957.

(8) Annual Estimated Reporting and Recordkeeping Cost Burden: $0. There are no additional costs to respondents associated with the survey other than the costs associated with the burden hours.

Request for Comments

Prospective respondents and other interested parties should comment on the actions discussed above. The following guidelines are provided to assist in the preparation of comments. Please indicate to which form(s) your comments apply.

As a Potential Respondent to the Request for Information

A. Please comment on the specific proposed changes discussed above:

1. Treatment of the Form EIA-861 as a sample to be supplemented by imputed estimates.

2. Introduction of the Form EIA-861S short form to be completed by relatively small utilities.

3. Increase in the reporting threshold for Schedule 2 of the Form EIA-923 to 200 MW, and limiting the data collection to coal, distillate oil, residual oil, petroleum coke, and natural gas.

4. Elimination of imputation for respondents that do not meet the reporting threshold for Schedule 2 of the Form EIA-923.

B. Is the proposed collection of information necessary for the proper performance of the functions of the agency and does the information have practical utility?

C. What actions could be taken to help ensure and maximize the quality, objectivity, utility, and integrity of the information collected?

D. Are the instructions and definitions clear and sufficient? If not, which instructions need clarification?

E. Can the information be submitted by the due dates?

F. Burden estimates per response include the total time necessary to gather and provide the requested information. In your opinion, how accurate are the following burden estimates?

Forms EIA-861 and EIA-861S: The public reporting burden for the Form EIA-861, “Annual Electric Power Industry Report,” is currently 9.0 hours per response with a total annual burden of approximately 29,700 hours. Because the proposal is to decrease the size of the frame (not the content of the survey form), the burden reduction is expressed as the change in total annual hours. The frame reduction would result in an estimated 33-percent decrease in the total annual burden for this form, or 9,900 hours (1,100 respondents multiplied by 9 hours per response). The annual burden for the proposed Form EIA-861S, “Annual Electric Power Industry Report (Short Form),” is estimated at 825 hours (1,100 respondents multiplied by 0.75 burden hours per response). The net annual burden reduction between the two forms is estimated at 9,075 hours.

Form EIA-923: The total annual burden for the Form EIA-923, “Power Plant Operations Report,” is currently estimated at 81,518 hours. This figure is the sum of the burden hours for each survey (monthly, annual, and supplemental), which is calculated by multiplying the total number of responses per survey by the burden hours per survey response. The total annual burden hours under this proposal is estimated at 78,957 hours. This number is the sum of the new burden hours for each survey, which is calculated by multiplying the revised number of responses per survey by the revised burden hours per survey response. The proposed threshold increase for Schedule 2 would result in an estimated 3.1-percent decrease in the total annual burden for the Form EIA-923, calculated as the percentage decrease between the current and revised estimated total annual burden hours.

G. The agency estimates that the only cost to a respondent is for the time it will take to complete the collection. Will a respondent incur any start-up costs for reporting, or any recurring annual costs for operation, maintenance, and purchase of services associated with the information collection?

H. What additional actions could be taken to minimize the burden of this collection of information? Such actions may involve the use of automated, electronic, mechanical, or other technological collection techniques or other forms of information technology.

I. Does any other Federal, State, or local agency collect similar information? If so, specify the agency, the data element(s), and the methods of collection.

As a Potential User of the Information to be Collected:

A. Please comment on the specific proposed changes discussed above:

1. Treatment of the Form EIA-861 as a sample to be supplemented by imputed estimates.

2. Introduction of the Form EIA-861S short form to be completed by relatively small utilities.

3. Increase in the reporting threshold for Schedule 2 of the Form EIA-923 to 200 MW, and limiting the data collection to coal, distillate oil, residual oil, petroleum coke, and natural gas.

4. Elimination of imputation for respondents that do not meet the reporting threshold for Schedule 2 of the Form EIA-923.

B. Is the proposed collection of information necessary for the proper performance of the functions of the Agency and does the information have practical utility?

C. What actions could be taken to help ensure and maximize the quality, objectivity, utility, and integrity of the information disseminated?

D. Is the information useful at the levels of detail to be collected? For what purpose(s) would the information be used? Be specific.

E. Are there alternate sources for the information and are they useful? If so, what are their weaknesses and/or strengths?

Comments submitted in response to this notice will be summarized and/or included in the request for OMB approval of these proposals. They also will become a matter of public record.

Statutory Authority: Section 13(b) of the Federal Energy Administration Act of 1974, P.L. 93-275, codified at 15 U.S.C. 772(b).

Issued in Washington, DC, on March 9, 2012.
Stephanie Brown,
Director, Office of Survey Development and Statistical Integration, U. S. Energy Information Administration.

[FR Doc. 2012-6267 Filed 3-14-12; 8:45 am]

BILLING CODE 6450-01-P